COMMISSION ON CIVIL RIGHTS

Agenda and Notice of Public Meeting of the Illinois Advisory Committee

Notice is hereby given, pursuant to the provisions of the rules and regulations of the U.S. Commission on Civil Rights (Commission), and the Federal Advisory Committee Act (FACA), that a meeting and briefing of the Illinois Advisory Committee to the Commission will convene at 10:00 a.m. and adjourn at 11:30 a.m. on November 6, 2012, at 55 W. Monroe St., Fifth Floor Conference Room, Chicago, IL 60603. The purpose of the meeting is to monitor the findings and recommendations of the Committee's 2011 report on food deserts in Chicago. Participants of the meeting will include presenters at the 2010 fact finding meeting.

Members of the public are entitled to submit written comments; the comments must be received in the regional office by December 6, 2012. The address is 55 W. Monroe St., Suite 410, Chicago, IL 60603. Persons wishing to email their comments, or to present their comments verbally at the meeting, or who desire additional information should contact Carolyn Allen, Administrative Assistant, (312) 353-8311, or by email: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, www.usccr.gov, or to contact the Midwestern Regional Office at the above email or street address.

The meeting will be conducted pursuant to the provisions of the rules and regulations of the Commission and FACA.

Dated in Washington, DC, October 22, 2012.
Peter Minarik,
Acting Chief, Regional Programs Coordination Unit.

[FR Doc. 2012-26280 Filed 10-24-12; 8:45 am]

BILLING CODE 6335-01-P